DEFENSE NUCLEAR FACILITIES SAFETY BOARD

Sunshine Act Meetings; Correction

AGENCY: Defense Nuclear Facilities Safety Board.

ACTION: Notice; correction.

SUMMARY: The Defense Nuclear Facilities Safety Board published a document in the Federal Register of November 7, 2018, providing notice of an upcoming public hearing on November 28, 2018. The document contained an incorrect date in the “matters to be considered” section.

FOR FURTHER INFORMATION CONTACT: Glenn Sklar, General Manager, Defense Nuclear Facilities Safety Board, 625 Indiana Avenue NW, Suite 700, Washington, DC 20004-2901, (800) 788-4016. This is a toll-free number.

SUPPLEMENTARY INFORMATION:

Correction

In the Federal Register of November 7, 2018, in FR Doc. 2018-24438, on page 55702, in the third column, correct “August 28” to read “November 28”.

Dated: November 20, 2018.
Joyce L. Connery,
Acting Chairman.

[FR Doc. 2018-25830 Filed 11-21-18; 4:15 pm]

BILLING CODE 3670-01-P